DEPARTMENT OF HOMELAND SECURITY

United States Citizenship and Immigration Services

Agency Information Collection Activities: Revised Collection; Comment Request

ACTION: 30-day notice of information collection under review; Application for Authorization to Issue Certification for Health Care Workers and Related Requirements; Form I-905.

The Department of Homeland Security, U.S. Citizenship and Immigration Services (USCIS) has submitted the following information collection request to the Office of Management and Budget (OMB) for review and clearance in accordance with the Paperwork Reduction Act of 1995. The information collection was previously published in the Federal Register on September 30, 2005 at 70 FR 57312, allowing for a 60-day public review and comment period on the proposed revised form. No comments were filed.

The purpose of this notice is to allow an additional 30 days for public comments. Comments are encouraged and will be accepted until January 3, 2006. This process is conducted in accordance with 5 CFR 1320.10.

Written comments and/or suggestions regarding the item(s) contained in this notice, especially regarding the estimated public burden and associated response time, should be directed to the Department of Homeland Security (DHS), USCIS, Director, Regulatory Management Division, Clearance Office, 111 Massachusetts Avenue, 3rd floor, Washington, DC 20529. Comments may also be submitted to DHS via facsimile to 202-272-8352 or via e-mail at rfs.regs@dhs.gov. When submitting comments by e-mail please make sure to add OMB Control Number 1615-0062 in the subject box. Written comments and suggestion from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of a currently approved information collection.

(2) Title of the Form/Collection: Application for Authorization to Issue Certification for Health Care Workers and Related Requirements.

(3) Agency form number, if any, and the applicable component of the Department of Homeland Security sponsoring the collection: Form I-905, Business and Trade Services, Program and Regulations Development, U.S. Citizenship and Immigration Services.

(4) Affected public who will be asked or required to respond, as well as a brief abstract: Primary: Not-for-profit institutions. The data collected on this form is used by USCIS to determine eligibility of an organization to issue certificates to foreign health care workers. It also provides the requirements for the data that shall be displayed on all health care certificates that will be used by a benefit granting agency. The information must be contained on each certificate issued by a certifying body in order for the certificate to be valid. This data requirement was established under OMB Control Number 1615-0062. That information collection was published as an Information Collection Request (no agency form) at 68 FR 43901 (Final rule: Certificates for Certain Health Care Workers, July 25, 2003).

(5) An estimate of the total number of respondents and the amount of time estimated for an average respondent to respond: 21,010 responses at 7.6 hours per response. This number includes the anticipated amount of certificates that will be issued by a benefit granting agency as the information collection now includes the requirements that must be met in order for a certificate to be valid.

(6) An estimate of the total public burden (in hours) associated with the collection: 37,280 annual burden hours. This number is increased as explained in item 5 above.

(7) Other Information: This submission combines the information collection previously approved under OMB Control No. 1615-0062 and Form I-905 [OMB Control No. 1615-0086].

If you have additional comments, suggestions, or need a copy of the proposed information collection instrument with instructions, or additional information, please visit the USCIS Web site at: http://uscis.gov/graphics/formsfee/forms/pra/index.htm.

If additional information is required contact: USCIS, Regulatory Management Division, 111 Massachusetts Avenue, 3rd Floor, Washington, DC 20529, (202) 272-8377.

Dated: November 29, 2005.
Richard A. Sloan,
Director, Regulatory Management Division, U.S. Citizenship and Immigration Services, U.S. Department of Homeland Security.

[FR Doc. 05-23567 Filed 12-1-05; 8:45 am]

BILLING CODE 4410-10-M